DEPARTMENT OF COMMERCE

Bureau of Industry and Security

15 CFR Parts 734, 740, 744, 746, and 774

[Docket: 241113-0294]

RIN 0694-AJ87

Export Administration Regulations: Revisions to Space-Related Export Controls; Extension of Comment Period

AGENCY: Bureau of Industry and Security, Department of Commerce.

ACTION: Interim final rule; extension of comment period.

SUMMARY: On October 23, 2024, the Bureau of Industry and Security (BIS) published in the Federal Register the interim final rule, “Export Administration Regulations: Revisions to Space-Related Export Controls” with comments originally due November 22, 2024. This notification extends the deadline for written comments to December 23, 2024. This extension is being made to allow for commenters to have additional time to review the interim final rule and to be informed by the public outreach that BIS is conducting on the rule in preparing their comments. Extending the public comment period will not in any way undermine the rule or national security of the United States.

DATES: The comment period for the interim final rule published October 23, 2024, at 89 FR 84770, is extended. Comments must be received by BIS no later than December 23, 2024.

ADDRESSES: Comments on this rule may be submitted to the Federal rulemaking portal at: www.regulations.gov. The regulations.gov ID for this rule is: BIS-2024-0031. Please refer to RIN 0694-AJ87 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission. For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For technical questions, contact Joseph A. Cristofaro, Director, Sensors, Aerospace and Marine Division, Office of National Security Controls, Bureau of Industry and Security, U.S. Department of Commerce, at 202-482-2440 or by email: Joseph.Cristofaro@bis.doc.gov. For general questions, contact Regulatory Policy Division, Office of Exporter Services, Bureau of Industry and Security, U.S. Department of Commerce at 202-482-2440 or by email: RPD2@bis.doc.gov.

SUPPLEMENTARY INFORMATION:

Background

On October 23, 2024, BIS published in the Federal Register the interim final rule, “Export Administration Regulations: Revisions to Space-Related Export Controls” (RIN 0694-AJ87) (89 FR 84770), which makes changes to controls for spacecraft and related items under the Export Administration Regulations (EAR). This IFR reduces license requirements on less sensitive items to reflect the close relations with certain countries to better facilitate space collaboration and makes refinements and clarifications to existing controls. These changes will better enable a globally competitive U.S. space industrial base while continuing to protect U.S. national security and foreign policy interests.

In response to requests from the regulated community, the Department of Commerce is extending the comment period for this rule (RIN 0694-AJ87) by 30 days.

Matthew S. Borman,
Principal Deputy Assistant Secretary for Strategic Trade and Technology Security.

[FR Doc. 2024-26886 Filed 11-15-24; 4:15 pm]

BILLING CODE 3510-33-P